DEPARTMENT OF TRANSPORTATION

Federal Aviation Administration

Notice of Availability for the Draft O'Hare Modernization Section 303/4(f) and Section 6(f) Evaluation for Proposed New Runways and Associated Development at Chicago O'Hare International Airport, Chicago, IL

AGENCY: Federal Aviation Administration, Department of Transportation (DOT).

ACTION: Notice of availability of the Draft O'Hare Section 303/4(f) and Section 6(f) Evaluation and notice of public comment period.

Location of Proposed Action: O'Hare International Airport, Chicago, Illinois.

SUMMARY: The Federal Aviation Administration (FAA) announces that the Draft O'Hare Modernization Section 303/4(f) and Section 6(f) Evaluation for the O'Hare Modernization Environmental Impact Statement is available for public review and comment. The Section 303/4(f) and Section 6(f) Evaluation can be obtained on the Web at http://www.agl.faa.gov/OMP/DEIS.htm or the locations noted below.

The Section 303/4(f) and Section 6(f) Evaluation documents the consideration of impacts to Section 303/4(f) lands and DOT Section 6(f) lands that could be impacted by build alternatives proposed at Chicago O'Hare International Airport. The proposed build alternatives are intended to address the projected needs of the Chicago region by reducing delays at O'Hare, thereby enhancing capacity of the National Airspace System, and ensuring that terminal facilities and supporting infrastructure can efficiently accommodate airport users.

The comment period is open as of the date of this Notice of Availability and closes July 5, 2005. Comments must be sent to Michael W. MacMullen of the FAA at the address shown below. Comments must be postmarked and emails must be sent no later than midnight, July 5, 2005.

SUPPLEMENTARY INFORMATION: The City of Chicago (City), Department of Aviation, as owner and operator of Chicago O'Hare International Airport (O'Hare or the Airport), P.O. Box 66142, Chicago, IL 60666, proposes to modernize O'Hare to address existing and future capacity and delay problems. The City initiated master planning and the process of seeking FAA approval to amend its airport layout plan to depict the O'Hare Modernization Program (OMP). The City is also seeking the other necessary FAA approvals to implement the OMP and associated capital improvements and procedures. The FAA has prepared its O'Hare Modernization DEIS addressing specific improvements at and adjacent to Chicago O'Hare International Airport, Chicago, Illinois. FAA's DEIS, issued on January 21, 2005, presents an evaluation of the City's proposed project and reasonable alternatives. Under the City's concept, O'Hare's existing seven-runway configuration would be replaced by an eight-runway configuration, in which six runways would be oriented generally in the east/west direction, the existing northeast/southwest-oriented Runways 4L/22R and 4R/22L would remain, and Runways 14L/32R and 14R/32L would be closed.

The Section 303/4(f) and Section 6(f) Evaluation is available for review until July 5, 2005, on the FAA's Web site http://www.agl.faa.gov/OMP/DEIS.htm), and at the following locations:

Arlington Heights Memorial Library, 500 North Dunton Ave., Arlington Heights

Bellwood Public Library, 600 Bohland Ave., Bellwood

Bensenville Community Public Library, 200 S. Church Rd., Bensenville

Berkeley Public Library, 1637 Taft Ave., Berkeley

Bloomingdale Public Library, 101 Fairfield Way, Bloomingdale

College of DuPage Library, 425 Fawell Blvd., Glen Ellyn

Des Plaines Public Library, 1501 Ellinwood Ave., Des Plaines

Eisenhower Public Library, 4652 N. Olcutt Ave., Harwood Heights

Elk Grove Village Public Library, 1001 Wellington Ave., Elk Grove

Elmhurst Public Library, 211 Prospect Ave., Elmhurst

Elmwood Park Public Library, 4 W. Conti Pkwy., Elmwood Park

Franklin Park Public Library, 10311 Grand Ave., Franklin Park

Glendale Heights Library, 25 E. Fullerton Ave., Glendale Heights

Glenview Public Library, 1930 Glenview Rd., Glenview

Harold Washington Library, 400 S. State St., Chicago

Hoffman Estates Library, 1550 Hassell Rd., Hoffman Estates

Itasca Community Library, 500 W. Irving Park Rd., Itasca

Lombard Public Library, 110 W. Maple St., Lombard

Maywood Public Library, 121 S. 5th Ave., Maywood

Melrose Park Public Library, 801 N. Broadway, Melrose Park

Morton Grove Public Library, 6140 Lincoln Ave., Morton Grove

Mount Prospect Public Library, 10 S. Emerson St., Mount Prospect

Niles Public Library, 6960 W. Oakton St., Niles

Northlake Public Library, 231 N. Wolf Rd., Northlake

Oak Park Public Library, 834 Lake St., Oak Park

Oakton Community College Library, 1616 E. Gold Rd., Des Plaines

Park Ridge Public Library, 20 S. Prospect Ave., Park Ridge

River Forest Public Library, 735 Lathrop Ave., River Forest

Rover Grove Public Library, 8638 W. Grant Ave., River Grove

Schaumburg Township District Library, 130 S. Roselle Rd., Schaumburg

Schiller Park Public Library, 4200 Old River Rd., Schiller Park

Villa Park Public Library, 305 S. Ardmore Ave., Villa Park, and

Wood Dale Public Library, 520 N. Wood Dale Rd., Wood Dale

FOR FURTHER INFORMATION CONTACT: Michael W. MacMullen, Airports Environmental Program Manager, Federal Aviation Administration, Chicago Airports District Office, 2300 East Devon Avenue, Des Plaines, IL 60018. Telephone: 847-294-8339, FAX: 847-294-7046; e-mail address: ompeis@faa.gov.

Issued in Des Plaines, Illinois, on May 17, 2005.
Barry Cooper,
Manager, Chicago Area Modernization Program Office, Great Lakes Region.

[FR Doc. 05-10132 Filed 5-19-05; 8:45 am]

BILLING CODE 4910-13-M